DEPARTMENT OF COMMERCE

International Trade Administration

[A-570-001]

Potassium Permanganate From the People's Republic of China; Rescission of the Antidumping Duty Administrative Review; 2016

AGENCY: Enforcement and Compliance, International Trade Administration, Commerce.

SUMMARY: On March 15, 2017, the Department of Commerce (the Department) initiated an administrative review of the antidumping duty order on potassium permanganate from the People's Republic of China (PRC) for two companies. The period of review (POR) is January 1, 2016, to December 31, 2016. On April 27, 2017, the Department published a notice of a partial rescission of the administrative review with respect to Chongqing Changyuan Group Limited (Changyuan). Based on Pacific Accelerator Limited's (PAL) timely withdrawal of its request for review, we are now rescinding this administrative review in its entirety.

DATES: Effective June 20, 2017.

FOR FURTHER INFORMATION CONTACT: Kabir Archuletta or Jessica Weeks, AD/CVD Operations, Office V, Enforcement and Compliance, International Trade Administration, U.S. Department of Commerce, 1401 Constitution Avenue NW., Washington, DC 20230; telephone (202) 482-2593 or (202) 482-4877, respectively.

SUPPLEMENTARY INFORMATION:

Background

On January 10, 2017, the Department published a notice of “Opportunity to Request Administrative Review” of the antidumping duty order on potassium permanganate from the PRC for the POR of January 1, 2016, through December 31, 2016.¹ On January 31, 2017, the Department received timely requests to conduct an administrative review of the antidumping duty order on potassium permanganate from the PRC from PAL and Changyuan.² Based upon those requests, on March 15, 2017, in accordance with section 751(a) or the Tariff Act of 1930, as amended, (the Act) the Department published a notice of initiation of an administrative review of the Order ³ covering the period January 1, 2016, to December 31, 2016.⁴ The Department initiated the administrative review with respect to PAL and Changyuan.⁵ On April 12, 2017, Changyuan timely withdrew its request for review.⁶ Accordingly, the Department published a notice of partial rescission of the antidumping duty administrative review of potassium permanganate.⁷ On June 13, 2017, PAL withdrew its request for review.⁸

¹ See Antidumping or Countervailing Duty Order, Finding, or Suspended Investigation; Opportunity To Request Administrative Review, 82 FR 2951 (January 10, 2017).

² See Letter to the Secretary of Commerce from PAL and Changyuan “RE: Request for Administrative Review of the Antidumping Duty Order on Potassium Permanganate from the People's Republic of China” (January 31, 2017).

³ See Antidumping Duty Order; Potassium Permanganate from the People's Republic of China, 49 FR 3897 (January 31, 1984) (Order).

⁴ See Initiation of Antidumping and Countervailing Duty Administrative Reviews, 82 FR 13795 (March 15, 2017).

⁵ Id.

⁶ See Letter to the Secretary of Commerce from PAL and Changyuan “Re: Amendment of Administrative Review Request: Antidumping Duty Order on Potassium Permanganate from the People's Republic of China (A-570-001)” (April 12, 2017).

⁷ See Potassium Permanganate from the People's Republic of China; 2016; Partial Rescission of the Antidumping Duty Administrative Review, 82 FR 19356 (April 27, 2017).

⁸ See Letter to the Secretary of Commerce from PAL “Re: PAL's Withdrawal of Review Request: 2016 Administrative Review of the Antidumping Duty Order on Potassium Permanganate from the People's Republic of China (A-570-001)” (June 13, 2017).

Rescission of Review

Pursuant to 19 CFR 351.213(d)(1), the Secretary will rescind an administrative review, in whole or in part, if a party who requested the review withdraws the request within 90 days of the date of publication of notice of initiation of the requested review. PAL was the only remaining respondent in this administrative review, PAL timely withdrew its request for review, and no other party requested a review of PAL. Further, pursuant to 19 CFR 351.213(d)(1) and as a result of the rescission with respect to PAL and the prior rescission with respect to Changyuan, we are rescinding the administrative review of the antidumping duty order on potassium permanganate from the PRC for the period January 1, 2016, through December 31, 2016, in its entirety.

Assessment

The Department will instruct U.S. Customs and Border Protection (CBP) to assess antidumping duties on all appropriate entries. Because the Department is rescinding this administrative review in its entirety, the entries to which this administrative review pertain shall be assessed antidumping duties at rates equal to the cash deposit of estimated antidumping duties required at the time of entry, or withdrawal from warehouse, for consumption, in accordance with 19 CFR 351.212(c)(1)(i). The Department intends to issue appropriate assessment instructions to CBP 15 days after the publication of this notice in the Federal Register.

Notification to Importers

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

Notification Regarding Administrative Protective Orders

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This notice is issued and published in accordance with sections 751(a)(1) and 777(i)(l) of the Act, and 19 CFR 351.213(d)(4).

Dated: June 15, 2017.
Gary Taverman,
Deputy Assistant Secretary for Antidumping and Countervailing Duty Operations.

[FR Doc. 2017-12820 Filed 6-19-17; 8:45 am]

BILLING CODE 3510-DS-P